DEPARTMENT OF TRANSPORTATION

Federal Highway Administration

Notice of Intent To Prepare an Environmental Impact Statement; West Waukesha Bypass, Waukesha County, WI

AGENCY: Federal Highway Administration (FHWA), DOT.

ACTION: Notice of Intent to prepare an Environmental Impact Statement.

SUMMARY: The FHWA is issuing this notice to advise the public that an Environmental Impact Statement (EIS) will be prepared for transportation improvements in the planned West Waukesha Bypass corridor in Waukesha County, Wisconsin. The EIS is being prepared in conformance with 40 CFR part 1500 and FHWA regulations.

SUPPLEMENTARY INFORMATION: The Federal Highway Administration (FHWA), in cooperation with the Wisconsin Department of Transportation (WisDOT), and Waukesha County will prepare an Environmental Impact Statement (EIS) on improvements needed to safely accommodate local and regional traffic in an approximate five mile corridor from I-94 on the north to STH 59 on the south. The EIS will evaluate no build and build alternatives for the West Waukesha Bypass.

Participation by the public, local officials, state and federal regulatory agencies, American Indian Tribes, and other interests will be solicited through public information meetings, agency coordination meetings, and a public hearing. Opportunities to be participating and/or cooperating agencies and to provide input on the project's coordination plan and impact assessment methodology will also be provided under Section 6002 of the Safe, Accountable, Flexible, Efficient Transportation Equity Act: A Legacy for Users (SAFETEA-LU).

This study shall comply with Title VI of the Civil Rights Act and of Executive Order 12898, which prohibits discrimination on the basis of race, color, age, sex, or country of national origin in the implementation of this action. To ensure that the full range of issues related to this proposed action is addressed and all substantive issues are identified, comments and suggestions are invited from all interested parties. Comments or questions concerning this proposed action should be directed to FHWA or WisDOT at the addresses provided below (Catalog of Federal Domestic Assistance Program Number 20.205, Highway Planning and Construction).

FOR FURTHER INFORMATION CONTACT: Tracey McKenney, P.E., Major Projects/Field Operations Manager, Federal Highway Administration, 525 Junction Road, Suite 8000, Madison, WI 53717-2157; Telephone: (608) 829-7510. You may also contact Eugene Johnson, Director, Bureau of Equity and Environmental Services, Wisconsin Department of Transportation, P.O. Box 7916, Madison, Wisconsin 53707-7916: Telephone: (608) 267-9527.

An electronic copy of this document may be downloaded from the Government Printing Office's Electronic Bulletin Board Service at (202) 512-1661 by using a computer modem and suitable communications software. Internet users may reach the Office of Federal Register's home page at: http://www.archives.gov/ and the Government Printing Office's database at: http://www.gpoaccess.gov/nara/index.html.

Authority: 23 U.S.C. 315; 49 CFR 1.48.

* Issued on: May 5, 2010.
Tracey McKenney,
Major Projects/Field Operations Manager, Federal Highway Administration, Madison, Wisconsin.

[FR Doc. 2010-11181 Filed 5-10-10; 8:45 am]

BILLING CODE P